DEPARTMENT OF JUSTICE

Office of Justice Programs

[OMB Number 1121-0309]

Agency Information Collection Activities; Proposed Collection; Comments Requested: International Terrorism Victim Expense Reimbursement Program Application

ACTION: 60-Day Notice.

The Department of Justice, Office of Justice Programs, Office for Victims of Crime will be submitting the following information collection request to the Office of Management and Budget (OMB) for review and approval in accordance with the Paperwork Reduction Act of 1995. The proposed information collection is published to obtain comments from the public and affected agencies. Comments are encouraged and will be accepted for “sixty days” until May 7, 2013. This process is conducted in accordance with 5 CFR 1320.10.

If you have comments especially on the estimated public burden or associated response time, suggestions, or need a copy of the proposed information collection instrument with instructions or additional information, please contact Chandria Slaughter, Office for Victims of Crime, 810 Seventh Street NW., Washington, DC 20531; by facsimile at (202) 305-2440 or by email, to ITVERP@usdoj.gov.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology (e.g., permitting electronic submission of responses).

Overview of this information:

(1) Type of information collection: Extension of a currently approved collection.

(2) The title of the form/collection: International Terrorism Victim Expense Reimbursement Program (ITVERP) Application.

(3) The agency form number, if any, and the applicable component of the department sponsoring the collection: Form Number: The Office of Management and Budget Number for the certification form is 1121-0309. The Office for Victims of Crime, Office of Justice Programs, United States Department of Justice is sponsoring the collection.

(4) Affected public who will be asked or required to respond, as well as a brief abstract: Primary: Individual victims, surviving family members or personal representatives. Other: Federal Government. This application will be used to apply for expense reimbursement by U.S. nationals and U.S. Government employees who are victims of acts of international terrorism that occur(red) outside of the United States. The application will be used to collect necessary information on the expenses incurred by the applicant, as associated with his or her victimization, as well as other pertinent information, and will be used by OVC to make an award determination.

(5) An estimate of the total number of respondents and the amount of time estimated for an average respondent to respond/reply: It is estimated that 100 respondents will complete the certification in approximately 45 minutes.

(6) An estimate of the total public burden (in hours) associated with the collection: The estimated total public burden associated with this information collection is 75 hours.

If additional information is required contact: Jerri Murray, Department Clearance Officer, Policy and Planning Staff, Justice Management Division, U.S. Department of Justice, Two Constitution Square, 145 N Street NE., Room 3W-1407B, Washington, DC 20530.

Dated: March 5, 2013.
Jerri Murray,
Department Clearance Officer for PRA, U.S. Department of Justice.

[FR Doc. 2013-05431 Filed 3-7-13; 8:45 am]

BILLING CODE 4410-18-P